DEPARTMENT OF COMMERCE

International Trade Administration

[A-533-810]

Stainless Steel Bar From India; Notice of Extension of Time Limits for Final Results of Antidumping Duty Administrative Review

AGENCY: Import Administration, International Trade Administration, Department of Commerce.

SUMMARY: The Department of Commerce is extending the time limit for the final results in the antidumping duty administrative review of stainless steel bar from India. The review covers five producers/exporters of the subject merchandise to the United States. The period of review is February 1, 2002, through January 31, 2003.

EFFECTIVE DATE: June 22, 2004.

FOR FURTHER INFORMATION CONTACT: Irina Itkin or Elizabeth Eastwood, Office of AD/CVD Enforcement, Office 2, Import Administration, International Trade Administration, U.S. Department of Commerce, 14th Street and Constitution Avenue, NW., Washington, DC 20230; telephone (202) 482-0656 and (202) 482-3874, respectively.

Statutory Time Limits

Section 751(a)(3)(A) of the Tariff Act of 1930, as amended (the Act) requires the Department of Commerce (the Department) to make a final determination in an administrative review within 120 days after the date on which the preliminary determination is published. However, if it is not practicable to complete the review within this time period, section 751(a)(3)(A) of the Act allows the Department to extend the time limit for the final results to 180 days (or 300 days if the Department does not extend the time limit for the preliminary results) from the date of publication of the preliminary results.

Extension of the Time Limit for Final Results of Administrative Review

The Department issued the preliminary results of this administrative review of the antidumping duty order on stainless steel bar from India on March 8, 2004 (69 FR 10666). The current deadline for the final results in this review is July 6, 2004. In accordance with section 751(a)(3)(A) of the Act, and 19 CFR 351.213(h)(2), the Department finds that it is not practicable to complete the review within the original time frame due to the complexity of certain issues raised in the case briefs, including several issues involving the application of adverse facts available and revocation of the antidumping duty order.

Because it is not practicable to complete this administrative review within the time limit mandated by section 751(a)(3)(A) of the Act and 19 CFR 351.213(h)(2), the Department is extending the time limit for completion of the final results of this administrative review until September 7, 2004.

Dated: June 16, 2004.
Jeffrey May,
Deputy Assistant Secretary for Import Administration, Group I.

[FR Doc. 04-14124 Filed 6-21-04; 8:45 am]

BILLING CODE 3510-DS-P